DEPARTMENT OF THE TREASURY

Senior Executive Service; Departmental Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Baukol, Andy P., Deputy Assistant Secretary for Mid-East and Africa.

Cavella, Charles J., Deputy Assistant Secretary for Security.

Coloretti, Nani Ann, Deputy Assistant Secretary for Management and Budget.

Dohner, Robert S., Deputy Assistant Secretary for South and East Asia.

Fitzpayne, Alistair M., Deputy Chief of Staff and Executive Secretary.

Gerardi, Geraldine, Director for Business and International Taxation.

Glaser, Daniel L., Deputy Assistant Secretary for Terrorist Financing and Financial Crimes.

Gregg, Richard L., Fiscal Assistant Secretary.

Grippo, Gary E., Deputy Assistant Secretary for Fiscal Operations and Policy.

Hammerle, Barbara C., Deputy Director, Office of Foreign Assets Control.

Hampl, Eric E., Director, Executive Office of Asset Forfeiture.

Harvey, Mariam G., Associate Chief Human Capital Officer for Civil Rights and Diversity.

Jaskowiak, Mark M., Deputy Assistant Secretary for Investment Security.

Klein, Aaron, Deputy Assistant Secretary for Policy Coordination.

Lee, Nancy, Deputy Assistant Secretary for Western Hemisphere.

Madon, Michael P., Deputy Assistant Secretary for Intelligence Community Integration.

Mazur, Mark J., Deputy Assistant Secretary for Tax Analysis.

McDonald, William L., Deputy Assistant Secretary for Technical Assistance Policy.

Mendelsohn, Howard S., Deputy Assistant Secretary for Intelligence & Analysis.

Ostrowski, Nancy, Director, Office of D.C. Pensions.

Pabotoy, Barbara, Associate Chief Human Capital Officer for Human Capital Services.

Patterson, Mark A., Chief of Staff.

Pizer, William A., Deputy Assistant Secretary for Environment and Energy.

Reger, Mark Anthony, Deputy Assistant Secretary for Accounting Policy.

Rutherford, Matthew S., Deputy Assistant Secretary for Federal Finance.

Shay, Stephen E., Deputy Assistant Secretary for International Tax Affairs.

Sobel, Mark D., Deputy Assistant Secretary for International Monetary and Financial Policy.

Szubin, Adam J., Director, Office of Foreign Assets Control.

Twohig, Peggy Lynn, Director, Office of Consumer Protection.

DATES: Effective Date: Membership is effective on the date of this notice.

FOR FURTHER INFORMATION CONTACT: Christine Nalli, Supervisory Human Resources Specialist, 1500 Pennsylvania Avenue, NW., ATTN: National Press Building, Room 200, Washington, DC 20220. Telephone: 202-622-1105.

This notice does not meet the Department's criteria for significant regulations.

Dated: October 22, 2010.
Kristina J. Kaptur,
Director, Office of Human Resources.

[FR Doc. 2010-28114 Filed 11-5-10; 8:45 am]

BILLING CODE 4811-42-P